DEPARTMENT OF ENERGY

Federal Energy Regulatory Commission

Combined Notice of Filings #1

Take notice that the Commission received the following exempt wholesale generator filings:

Docket Numbers: EG25-477-000.

Applicants: Okolona Solar, LLC.

Description: Okolona Solar, LLC submits Notice of Self-Certification of Exempt Wholesale Generator Status.

Filed Date: 8/20/25.

Accession Number: 20250820-5046.

Comment Date: 5 p.m. ET 9/10/25.

Docket Numbers: EG25-478-000.

Applicants: Vaca Del Sol, LLC.

Description: Vaca Del Sol, LLC submits Notice of Self-Certification of Exempt Wholesale Generator Status.

Filed Date: 8/20/25.

Accession Number: 20250820-5049.

Comment Date: 5 p.m. ET 9/10/25.

Docket Numbers: EG25-479-000.

Applicants: Saragosa Del Sol Energy, LLC.

Description: Saragosa Del Sol Energy, LLC submits Notice of Self-Certification of Exempt Wholesale Generator Status.

Filed Date: 8/20/25.

Accession Number: 20250820-5072.

Comment Date: 5 p.m. ET 9/10/25.

Docket Numbers: EG25-480-000.

Applicants: Diamondback Solar, LLC.

Description: Diamondback Solar, LLC submits Notice of Self-Certification of Exempt Wholesale Generator Status.

Filed Date: 8/20/25.

Accession Number: 20250820-5075.

Comment Date: 5 p.m. ET 9/10/25.

Docket Numbers: EG25-481-000.

Applicants: Rising Star Solar, LLC.

Description: Rising Star Solar, LLC submits Notice of Self-Certification of Exempt Wholesale Generator Status.

Filed Date: 8/20/25.

Accession Number: 20250820-5078.

Comment Date: 5 p.m. ET 9/10/25.

Docket Numbers: EG25-482-000.

Applicants: Cap Ridge Wind Energy I, LLC.

Description: Cap Ridge Wind Energy I, LLC submits Notice of Self-Certification of Exempt Wholesale Generator Status.

Filed Date: 8/20/25.

Accession Number: 20250820-5079.

Comment Date: 5 p.m. ET 9/10/25.

Docket Numbers: EG25-483-000.

Applicants: Cap Ridge Wind Energy II, LLC.

Description: Cap Ridge Wind Energy II, LLC submits Notice of Self-Certification of Exempt Wholesale Generator Status.

Filed Date: 8/20/25.

Accession Number: 20250820-5081.

Comment Date: 5 p.m. ET 9/10/25.

Docket Numbers: EG25-484-000.

Applicants: Cap Ridge Wind Energy III, LLC.

Description: Cap Ridge Wind Energy III, LLC submits Notice of Self-Certification of Exempt Wholesale Generator Status.

Filed Date: 8/20/25.

Accession Number: 20250820-5083.

Comment Date: 5 p.m. ET 9/10/25.

Docket Numbers: EG25-485-000.

Applicants: Cap Ridge Wind Energy IV, LLC.

Description: Cap Ridge Wind Energy IV, LLC submits Notice of Self-Certification of Exempt Wholesale Generator Status.

Filed Date: 8/20/25.

Accession Number: 20250820-5085.

Comment Date: 5 p.m. ET 9/10/25.

Docket Numbers: EG25-486-000.

Applicants: Horse Hollow Wind Energy I, LLC.

Description: Horse Hollow Wind Energy I, LLC submits Notice of Self-Certification of Exempt Wholesale Generator Status.

Filed Date: 8/20/25.

Accession Number: 20250820-5088.

Comment Date: 5 p.m. ET 9/10/25.

Docket Numbers: EG25-487-000.

Applicants: Horse Hollow Wind Energy II, LLC.

Description: Horse Hollow Wind Energy II, LLC submits Notice of Self-Certification of Exempt Wholesale Generator Status.

Filed Date: 8/20/25.

Accession Number: 20250820-5112.

Comment Date: 5 p.m. ET 9/10/25.

Docket Numbers: EG25-488-000.

Applicants: Horse Hollow Wind Energy III, LLC.

Description: Horse Hollow Wind Energy III, LLC submits Notice of Self-Certification of Exempt Wholesale Generator Status.

Filed Date: 8/20/25.

Accession Number: 20250820-5118.

Comment Date: 5 p.m. ET 9/10/25.

Docket Numbers: EG25-489-000.

Applicants: Horse Hollow Wind Energy IV, LLC.

Description: Horse Hollow Wind Energy IV, LLC submits Notice of Self-Certification of Exempt Wholesale Generator Status.

Filed Date: 8/20/25.

Accession Number: 20250820-5119.

Comment Date: 5 p.m. ET 9/10/25.

Docket Numbers: EG25-490-000.

Applicants: Post Wind Energy, LLC.

Description: Post Wind Energy, LLC submits Notice of Self-Certification of Exempt Wholesale Generator Status.

Filed Date: 8/20/25.

Accession Number: 20250820-5127.

Comment Date: 5 p.m. ET 9/10/25.

Docket Numbers: EG25-491-000.

Applicants: Callahan Divide Energy, LLC.

Description: Callahan Divide Energy, LLC submits Notice of Self-Certification of Exempt Wholesale Generator Status.

Filed Date: 8/20/25.

Accession Number: 20250820-5128.

Comment Date: 5 p.m. ET 9/10/25.

Docket Numbers: EG25-492-000.

Applicants: Blue Summit Wind Energy II, LLC.

Description: Blue Summit Wind Energy II, LLC submits Notice of Self-Certification of Exempt Wholesale Generator Status.

Filed Date: 8/20/25.

Accession Number: 20250820-5129.

Comment Date: 5 p.m. ET 9/10/25.

Docket Numbers: EG25-493-000.

Applicants: Jackalope Wind, LLC.

Description: Jackalope Wind, LLC submits Notice of Self-Certification of Exempt Wholesale Generator Status.

Filed Date: 8/20/25.

Accession Number: 20250820-5141.

Comment Date: 5 p.m. ET 9/10/25.

Take notice that the Commission received the following electric rate filings:

Docket Numbers: ER25-1183-001.

Applicants: Tri-State Generation and Transmission Association, Inc.

Description: Tariff Amendment: Response to Deficiency to be effective 4/6/2025.

Filed Date: 8/20/25.

Accession Number: 20250820-5027.

Comment Date: 5 p.m. ET 9/10/25.

Docket Numbers: ER25-2500-001.

Applicants: Versant Power.

Description: Tariff Amendment: Response to Deficiency Letter—WHT—Bangor Hydro (ER25-2500-) to be effective 8/12/2025.

Filed Date: 8/20/25.

Accession Number: 20250820-5103.

Comment Date: 5 p.m. ET 9/10/25.

Docket Numbers: ER25-3236-000.

Applicants: Midcontinent Independent System Operator, Inc.

Description: § 205(d) Rate Filing: 2025-08-20_SA 3435 Entergy Mississippi-Wildwood Solar 4th Rev GIA (J908) to be effective 8/13/2025.

Filed Date: 8/20/25.

Accession Number: 20250820-5038.

Comment Date: 5 p.m. ET 9/10/25.

Docket Numbers: ER25-3237-000.

Applicants: Accent Energy Midwest II LLC.

Description: Tariff Amendment: Accent Energy Midwest II LLC Cancallation of MBR Tariff to be effective 8/21/2025.

Filed Date: 8/20/25.

Accession Number: 20250820-5080.

Comment Date: 5 p.m. ET 9/10/25.

Docket Numbers: ER25-3238-000.

Applicants: PJM Interconnection, L.L.C.

Description: § 205(d) Rate Filing: Original NSA, Service Agreement No. 7727; AB2-037 to be effective 10/20/2025.

Filed Date: 8/20/25.

Accession Number: 20250820-5126.

Comment Date: 5 p.m. ET 9/10/25.

Docket Numbers: ER25-3239-000.

Applicants: Cimarron Wind, LLC.

Description: § 205(d) Rate Filing: Cimarron Wind, LLC—Application for Market-Based Rate Authorization to be effective 10/20/2025.

Filed Date: 8/20/25.

Accession Number: 20250820-5138.

Comment Date: 5 p.m. ET 9/10/25.

Docket Numbers: ER25-3240-000.

Applicants: Persica Solar, LLC.

Description: § 205(d) Rate Filing: Persica Solar, LLC—Application for Market-Based Rate Authorization to be effective 10/20/2025.

Filed Date: 8/20/25.

Accession Number: 20250820-5142.

Comment Date: 5 p.m. ET 9/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: August 20, 2025.
Carlos D. Clay,
Deputy Secretary.

[FR Doc. 2025-16237 Filed 8-22-25; 8:45 am]

BILLING CODE 6717-01-P